DEPARTMENT OF THE INTERIOR

National Park Service

Concession Contracts and Permits

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
AMIS002-89 | Rex Maughn | Amistad National Recreation Area.
AMIS003-87 | Rough Canyon Marina | Amistad National Recreation Area.
BRCA003-84 | Xanterra Parks & Resorts, Inc. | Bryce Canyon National Park.
CACH001-84 | White Dove Inc., dba Thunderbird Lodge | Canyon de Chelly National Monument.
CAVE001-70 | Cavern Supply Company, Inc. | Carlsbad Caverns National Park.
GLAC001-89 | Glacier Park Boat Company, Inc. | Glacier National Park.
GLCA003-69 | ARAMARK | Glen Canyon National Park.
GRCA002-85 | Xanterra Parks & Resorts, Inc. | Grand Canyon National Park.
GRCA004-88 | Jerman-Mangum Enterprises, Inc. | Grand Canyon National Park.
GRCA005-88 | Verkamps, Inc. | Grand Canyon National Park.
GRCA006-96 | Arizona Raft Advetures, Inc. | Grand Canyon National Park.
GRCA007-96 | Arizona River Runners, Inc. | Grand Canyon National Park.
GRCA010-96 | Canyoneers, Inc. | Grand Canyon National Park.
GRCA011-96 | Colorado River & Trail Expeditions, Inc. | Grand Canyon National Park.
GRCA015-96 | Grand Canyon Expeditions, Inc. | Grand Canyon National Park.
GRCA016-96 | Canyon Expeditions, Inc. | Grand Canyon National Park.
GRCA017-96 | Diamond River Adventures, Inc. | Grand Canyon National Park.
GRCA018-96 | Ted C. Hatch River Expenditions, Inc. | Grand Canyon National Park.
GRCA020-96 | Moki Mac River Expenditions, Inc. | Grand Canyon National Park.
GRCA021-96 | O.A.R.S. Grand Canyon Inc. | Grand Canyon National Park.
GRCA022-96 | John R. Vail | Grand Canyon National Park.
GRCA024-96 | ARAMARK | Grand Canyon National Park.
GRCA025-96 | Tour West, Inc. | Grand Canyon National Park.
GRCA026-96 | Western River Expeditions, Inc. | Grand Canyon National Park.
GRCA028-96 | Canyon Explorations, Inc. | Grand Canyon National Park.
GRCA029-96 | Grand Canyon Discovery, Inc. | Grand Canyon National Park.
GRTE003-97 | Rex G. and Ruth G. Maughan | Grand Teton National Park.
LAMR002-87 | Rex Maughan | Lake Meredith National Recreation Area.
MEVE001-82 | ARAMARK | Mesa Verde National Park.
PEFO001-85 | Xanterra Parks & Resorts, LLC | Petrified Forest National Park.
ZION003-85 | Xanterra Parks & Resorts, LLC | Zion National Park.

DATES: Effective Date: January 1, 2007.

FOR FURTHER INFORMATION CONTACT: Jo. A. Pendry, Concession Program Manager, National Park Service, Washington, DC 20240, Telephone, 202/513-7156.

Dated: December 16, 2006.
John Wessels,
Acting Assistant Director, Business Services.

[FR Doc. 07-659 Filed 2-13-07; 8:45 am]

BILLING CODE 4312-53-M